ENVIRONMENTAL PROTECTION AGENCY

40 CFR Part 60

[EPA-HQ-OAR-2017-0355; FRL-9973-28-OAR]

RIN 2060-AT55

Repeal of Carbon Pollution Emission Guidelines for Existing Stationary Sources: Electric Utility Generating Units

AGENCY: Environmental Protection Agency (EPA).

ACTION: Notice of three public listening sessions and that the public comment period will be reopened.

SUMMARY: On October 16, 2017, the Environmental Protection Agency (EPA) published a proposal to announce its intention to repeal the Carbon Pollution Emission Guidelines for Existing Stationary Sources: Electric Utility Generating Units, commonly referred to as the Clean Power Plan, as promulgated on October 23, 2015. The proposal also requested public comment on the proposed rule. The EPA held public hearings on November 28 and 29, 2017, in Charleston, West Virginia, and extended the public comment period until January 16, 2018. In response to numerous requests for additional opportunities for the public to provide oral testimony on the proposed rule in more than one location, the EPA is announcing that three listening sessions will be held. In addition, the EPA will reopen the public comment period until April 26, 2018.

DATES: The first listening session for the proposed rule published October 16, 2017, at 82 FR 48035, will be held Wednesday, February 21, 2018, in Kansas City, Missouri; the second session will be held Wednesday, February 28, 2018, in San Francisco, California; and the third session will be held Tuesday, March 27, 2018, in Gillette, Wyoming. The EPA is reopening the public comment period until April 26, 2018.

ADDRESSES: The first listening session will be held Wednesday, February 21, 2018, at the U.S. Department of Agriculture Beacon Complex, 6501 Beacon Drive, Kansas City, Missouri 64133, from 10 a.m. until 8 p.m., Central Standard Time (CST). Because this listening session is being held at a U.S. government facility, individuals planning to attend should be prepared to show a current, valid state- or federal-approved picture identification to the security staff in order to gain access to the meeting room. An expired form of identification will not be permitted. Please note that the Real ID Act, passed by Congress in 2005, established new requirements for entering federal facilities. If your driver's license is issued by a noncompliant state, you must present an additional form of identification to enter the federal building in Kansas City where the listening session will be held. Acceptable alternative forms of identification include: Federal employee badges, passports, enhanced driver's licenses, and military identification cards.

Additional information on the Real ID Act is available at https://www.dhs.gov/real-id-frequently-asked-questions. In addition, you will need to obtain a visitor pass for any personal belongings you bring with you. No backpacks will be allowed into the building, but purses will be allowed.

Also, vehicles should only enter the West “C” Gate, identified with orange traffic cones and all vehicles must park in a designated area. Demonstrations will not be allowed on federal property for security reasons. The second listening session will be held Wednesday, February 28, 2018, at the San Francisco Main Library, Koret Auditorium, 30 Grove Street entrance, San Francisco, California 94102, from 8:30 a.m. until 7:30 p.m., Pacific Standard Time (PST). And the third listening session will be held Tuesday, March 27, 2018, at the Gillette College Technical Education Center, 3251 South 4-J Road, Gillette, Wyoming 82718, from 9 a.m. until 8 p.m., Mountain Daylight Time (MDT). The EPA will make every effort to accommodate all speakers.

The EPA's website for the rulemaking, which includes the proposal and information about the listening sessions, can be found at: https://www.epa.gov/stationary-sources-air-pollution/electric-utility-generating-units-repealing-clean-power-plan-0. Written comments on the proposed rule may be submitted to the EPA electronically, by mail, by facsimile, or through hand delivery/courier. Please refer to the proposal (82 FR 48035) for the addresses and detailed instructions.

How to Register: If you would like to present oral testimony at the listening sessions, registration will begin on February 1, 2018. The last day to register to present oral testimony will be February 14, 2018, for Kansas City; February 21, 2018, for San Francisco; and March 20, 2018, for Gillette. To register to speak, please use the online registration form available at: https://www.epa.gov/stationary-sources-air-pollution/electric-utility-generating-units-repealing-clean-power-plan-0. To register to speak, we request the following information: The time you wish to speak, name, affiliation, email address, and telephone number. If you register to speak online, you do not need to call. If you require reasonable accommodations, such as the service of a translator, please let us know at the time of registration. Please note that updates made to any aspect of the sessions will be posted online at: https://www.epa.gov/stationary-sources-air-pollution/electric-utility-generating-units-repealing-clean-power-plan-0. While the EPA expects the listening sessions to go forward as set forth above, it asks that you monitor its website or contact the appropriate person listed below to determine if there are any updates to the information on the sessions. The EPA does not intend to publish a notice in the Federal Register announcing any such updates.

FOR FURTHER INFORMATION CONTACT: If you are not able to register online or if you have key questions, contact Amy Bhesania at (913) 551-7147 or at bhesania.amy@epa.gov for the session in Kansas City; Trina Martynowicz at (415) 947-8715 or at R9CPP@epa.gov for the session in San Francisco; or Laura J. Farris at (303) 312-6388 or at farris.laura@epa.gov for the session in Gillette.

Questions concerning the proposed rule that was published in the Federal Register on October 16, 2017, should be addressed to Mr. Nick Swanson, Natural Resources Group, Sector Policies and Programs Division (E143-03), U.S. Environmental Protection Agency, Research Triangle Park, North Carolina 27711; telephone number: (919) 541-4080; email address: swanson.nicholas@epa.gov.

SUPPLEMENTARY INFORMATION: The proposal for which the EPA is holding the listening sessions was published in the Federal Register on October 16, 2017, and is available at: https://www.epa.gov/stationary-sources-air-pollution/electric-utility-generating-units-repealing-clean-power-plan-0 and also in the docket identified below. The listening sessions will provide interested parties the opportunity to present oral comments regarding the EPA's proposed repeal, including data, views, or arguments concerning the proposal. The EPA may ask clarifying questions during the oral presentations, but will not respond to the presentations at that time. Written statements and supporting information submitted during the public comment period will be considered with the same weight as any oral comments and supporting information presented at the listening sessions. The EPA will keep the public comment period open until April 26, 2018.

For planning purposes, each speaker should anticipate speaking for no more than 5 minutes, although we might need to shorten that time if there is a large turnout. The EPA encourages commenters to submit to the docket a copy of their testimony electronically (via email or CD) or in hard copy form.

The listening session schedules, including lists of speakers, will be posted on the EPA's website at: https://www.epa.gov/stationary-sources-air-pollution/electric-utility-generating-units-repealing-clean-power-plan-0. Verbatim transcripts of the sessions and written statements will be included in the docket for the rulemaking. The EPA will make every effort to follow the schedule as closely as possible on the day of the sessions; however, please plan for the sessions to run either ahead of schedule or behind schedule.

How can I get copies of this document and other related information?

The EPA has established a docket for the proposed rule, “Repeal of Carbon Pollution Emission Guidelines for Existing Stationary Sources: Electric Utility Generating Units,” under Docket ID No. EPA-HQ-OAR-2017-0355, available at: http://www.regulations.gov.

Dated: January 17, 2018.
E. Scott Pruitt,
Administrator.

[FR Doc. 2018-01321 Filed 1-31-18; 8:45 am]

BILLING CODE 6560-50-P